DEPARTMENT OF COMMERCE

National Oceanic and Atmospheric Administration

Agency Information Collection Activities; Submission to the Office of Management and Budget (OMB) for Review and Approval; Comment Request; Alaska Region Crab Permits

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on February 6, 2020 (85 FR 6915), during a 60-day comment period. This notice allows for an additional 30 days for public comments.

Agency: National Oceanic and Atmospheric Administration (NOAA).

Title: Alaska Region Crab Permits.

OMB Control Number: 0648-0514.

Form Number(s): None.

Type of Request: Regular submission, extension of a current information collection.

Number of Respondents: 496.

Average Hours Per Response: 20 hours each for Application for Exemption from CR Crab North or South Region Delivery Requirements, and North or South Region Delivery Exemption Report; 23 hours for Application for Annual Crab Harvesting Cooperative Individual Fishing Quota Permit; 5 hours for CDQ Group Notification of Community Representative; 4 hours each for ECCO Annual Report and to file an appeal; 2.5 hours each for Application for Annual Crab IFQ Permit, and Application to Become an ECCO; 2 hours each for Application for Annual Crab IPQ Permit, Application for Transfer of Crab QS, Application for Transfer of Crab PQS, Application for CR Program Eligibility to Receive QS/PQS or IFQ/IPQ by Transfer, Application for Annual Exemption from Western Aleutian Islands Golden King Crab West Region Delivery Requirements, Community Impact Report or IPQ Holder Report, and Application for Transfer of Crab QS/IFQ to or from an ECCO; 1 hour for Application for BSAI Crab Hired Master (Skipper) Permit; 30 minutes each for Application for Registered Crab Receiver Permit, Application for Converted CPO QS and CPO IFQ, and BSAI Crab Rationalization Program QS Beneficiary Designation Form; 20 minutes for Application for Federal Crab Vessel Permit; 1 hour for electronic response and 2.5 hours for non-electronic response for Application for Transfer (Lease) of Crab IPQ, Application for Transfer (Lease) of Crab IFQ; and Application for Transfer of IFQ between Crab Harvesting Cooperatives.

Total Annual Burden Hours: 3,597 hours.

Needs and Uses: The information being collected is necessary for NMFS Alaska Region to manage and administrate the Bering Sea and Aleutian Islands Crab Rationalization limited access privilege program. This information collection contains the forms used by participants in the Crab Rationalization program to apply for or renew permits; transfer or lease individual fishing quota (IFQ), individual processing quota (IPQ), quota share (QS), or processor quota share (PQS); and apply for exemption from regional delivery requirements. This information collection also contains the several reports for which no collection forms are used.

Affected Public: Individuals or households; Business or other for-profit organizations; Not-for-profit institutions.

Frequency: Annually or as needed.

Respondent's Obligation: Voluntary; Required to Obtain or Retain Benefits.

Legal Authority: Magnuson-Stevens Fishery Conservation and Management Act (16 U.S.C. 1801 et seq).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0514.

Sheleen Dumas,
Department PRA Clearance Officer, Office of the Chief Information Officer, Commerce Department.

[FR Doc. 2020-13423 Filed 6-22-20; 8:45 am]

BILLING CODE 3510-22-P